DEPARTMENT OF HEALTH AND HUMAN SERVICES

National Biodefense Science Board: Notification of Public Teleconference

AGENCY: Department of Health and Human Services, Office of the Secretary.

ACTION: Notice.

SUMMARY: As stipulated by the Federal Advisory Committee Act, the Department of Health and Human Services (HHS) is hereby giving notice that the National Biodefense Science Board (NBSB) will hold a teleconference meeting. The meeting is open to the public. Pre-registration is NOT required, however, individuals who wish to participate in the public comment session should e-mail NBSB@HHS.GOV to RSVP.

DATES: The meeting will be held on February 10, 2010 from 2 p.m. to 4 p.m. ET.

ADDRESSES: The meeting will occur by teleconference. To attend, call 1-866-395-4129, pass-code “ASPR.” Please call 15 minutes prior to the beginning of the conference call to facilitate attendance.

FOR FURTHER INFORMATION: E-mail: NBSB@HHS.GOV

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

The Board will discuss and consider recommendations from the National Biodefense Science Board's Medical Countermeasure Markets and Sustainability Working Group report titled “Inventory of Issues Constraining or Enabling Industry Involvement in Medical Countermeasure Efforts.”

Members of the public are invited to attend by teleconference via a toll-free call-in phone number. The teleconference will be operator assisted to allow the public the opportunity to provide comments to the Board. Public participation will be limited to time and space available. Public comments will be limited to no more than 3 minutes per speaker. To be placed on the public comment list, notify the operator when you join the teleconference.

Public comments received by close of business one week prior to each teleconference will be distributed to the NBSB in advance. Submit comments via e-mail to NBSB@HHS.GOV, with “NBSB Public Comment” as the subject line.

A draft agenda and any additional materials/agendas will be posted on the NBSB Web site (http://www.hhs.gov/aspr/omsph/nbsb/) prior to the meeting.

Dated: January 11, 2010.
Nicole Lurie,
Assistant Secretary for Preparedness and Response.

[FR Doc. 2010-778 Filed 1-15-10; 8:45 am]

BILLING CODE 4150-37-P